DEPARTMENT OF THE INTERIOR

Bureau of Land Management

[UT-031-1430-ET; UTU 44415]

Public Land Order No. 7512; Extension of Public Land Order No. 6132; Utah

AGENCY: Bureau of Land Management, Interior.

ACTION: Public Land Order.

SUMMARY: This order extends Public Land Order No. 6132 for an additional 20-year period. This extension is necessary to continue the protection of the Escalante Administrative Site.

Effective Date: February 17, 2002.

FOR FURTHER INFORMATION CONTACT: Darrell Olsen, Realty Specialist, Escalante Field Station, P.O. Box 225, Escalante, Utah, 84726, 435-826-5611.

SUPPLEMENTARY INFORMATION: By virtue of the authority vested in the Secretary of the Interior by section 204 of the Federal Land Policy and Management Act of 1976, 43 U.S.C. 1714 (1994), it is ordered as follows:

1. Public Land Order No. 6132, which withdrew public land from mining to protect the Escalante Administrative Site, is hereby extended for an additional 20-year period following its date of expiration.

2. This withdrawal will expire 20 years from the effective date of this order, unless, as a result of a review conducted before the expiration date pursuant to section 204(f) of the Federal Land Policy and Management Act of 1976, 43 U.S.C. 1714(f) (1994), the Secretary determines that the withdrawal shall be extended.

Dated: January 31, 2002.
J. Steven Griles,
Deputy Secretary.

[FR Doc. 02-3963 Filed 2-15-02; 8:45 am]

BILLING CODE 4310-DQ-P